DEPARTMENT OF TRANSPORTATION

Federal Aviation Administration

14 CFR Part 71

[Docket No. FAA-2022-1399; Airspace Docket No. 22-AGL-22]

RIN 2120-AA66

Proposed Amendment of VOR Federal Airways V-126, V-156, V-233, and V-422, and Revocation of V-340 and V-371 in the Vicinity of Knox, IN

AGENCY: Federal Aviation Administration (FAA), DOT.

ACTION: Notice of proposed rulemaking (NPRM).

SUMMARY: This action proposes to amend VHF Omnidirectional Range (VOR) Federal airways V-126, V-156, V-233, and V-422, and revoke VOR Federal airways V-340 and V-371. The FAA is proposing this action due to the planned decommissioning of the VOR portion of the Knox, IN (OXI), VOR/Distance Measuring Equipment (VOR/DME) navigational aid (NAVAID). The Knox VOR is being decommissioned in support of the FAA's VOR Minimum Operational Network (MON) program.

DATES: Comments must be received on or before January 9, 2023.

ADDRESSES: Send comments on this proposal to the U.S. Department of Transportation, Docket Operations, 1200 New Jersey Avenue SE, West Building Ground Floor, Room W12-140, Washington, DC 20590; telephone: 1(800) 647-5527, or (202) 366-9826. You must identify FAA Docket No. FAA-2022-1399; Airspace Docket No. 22-AGL-22 at the beginning of your comments. You may also submit comments through the internet at www.regulations.gov.

FAA Order JO 7400.11G, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the ATS route structure as necessary to preserve the safe and efficient flow of air traffic within the National Airspace System.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2022-1399; Airspace Docket No. 22-AGL-22) and be submitted in triplicate to the Docket Management Facility (see ADDRESSES section for address and phone number). You may also submit comments through the internet at www.regulations.gov.

Commenters wishing the FAA to acknowledge receipt of their comments on this action must submit with those comments a self-addressed, stamped postcard on which the following statement is made: “Comments to FAA Docket No. FAA-2022-1399; Airspace Docket No. 22-AGL-22.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at www.regulations.gov. Recently published rulemaking documents can also be accessed through the FAA's web page at www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Operations Support Group, Central Service Center, Federal Aviation Administration, 10101 Hillwood Parkway, Fort Worth, TX 76177.

Availability and Summary of Documents for Incorporation by Reference

This document proposes to amend FAA Order JO 7400.11G, Airspace Designations and Reporting Points, dated August 19, 2022, and effective September 15, 2022. FAA Order JO 7400.11G is publicly available as listed in the ADDRESSES section of this document. FAA Order JO 7400.11G lists Class A, B, C, D, and E airspace areas, air traffic service routes, and reporting points.

Background

The FAA is planning to decommission the Knox, IN, VOR in June 2023. The Knox VOR was one of the candidate VORs identified for discontinuance by the FAA's VOR MON program and listed in the Final policy statement notice, “Provision of Navigation Services for the Next Generation Air Transportation System (NextGen) Transition to Performance-Based Navigation (PBN) (Plan for Establishing a VOR Minimum Operational Network),” published in the Federal Register of July 26, 2016 (81 FR 48694), Docket No. FAA-2011-1082.

Although the VOR portion of the Knox, IN, VOR/DME is planned for decommissioning, the co-located DME portion of the NAVAID is being retained to support NextGen PBN flight procedure requirements.

The VOR Federal airways effected by the Knox VOR decommissioning are VOR Federal airways V-126, V-156, V-233, V-340, V-371, and V-422. With the planned decommissioning of the Knox VOR, the remaining ground-based NAVAID coverage in the area is insufficient to enable the continuity of the affected airways. As such, proposed modifications to the affected VOR Federal airways would result in creating gaps in three of the airways (V-156, V-233, and V-422), redefining an airway end point in one of the airways (V-126), and revoking two of the airways (V-340 and V-371).

To overcome the proposed modifications to the affected airways, instrument flight rules (IFR) traffic could use portions of VOR Federal airways V-7, V-8, V-38, V-51, V-92, V-97, and V-285 for conventional navigation or RNAV routes T-215 and T-265 for GPS navigation by properly equipped aircraft. Additionally, pilots equipped with RNAV capabilities could also navigate point to point using the existing NAVAIDs and fixes that would remain in place to support continued operations though the affected area. IFR aircraft may also receive air traffic control (ATC) radar vectors to fly around or through the affected area, upon request. Visual flight rules (VFR) pilots who elect to navigate via the affected VOR Federal airways could also take advantage of the adjacent ATS routes or ATC services listed previously.

The Proposal

The FAA is proposing an amendment to 14 CFR part 71 to amend VOR Federal airways V-126, V-156, V-233, and V-422, and revoke VOR Federal airways V-340 and V-371 due to the planned decommissioning of the VOR portion of the Knox, IN, VOR/DME. The proposed VOR Federal airway actions are described below.

V-126: V-126 currently extends between the intersection of the Peotone, IL, VOR/Tactical Air Navigation (VORTAC) 053° and Knox, IN, VOR/DME 297° radials (BEARZ Fix) and the intersection of the Goshen, IN, VORTAC 092° and Fort Wayne, IN, VORTAC 016° radials (ILTON Fix). The FAA proposes to remove the airway segment between the BEARZ Fix and the Goshen, IN, VORTAC. As amended, the airway would extend between Goshen VORTAC and the intersection of the Goshen VORTAC 092° and the Fort Wayne VORTAC 016° radials (ILTON Fix).

V-156: V-156 currently extends between the Cedar Rapids, IA, VOR/DME and the Kalamazoo, MI, VOR/DME. The FAA proposes to remove the airway segment between the Peotone, IL, VORTAC and the Gipper, MI, VORTAC. Additional changes to other portions of the airway have been proposed in a separate NPRM. As amended, the airway would extend between the Cedar Rapids VOR/DME and the Peotone VORTAC, and between the Gipper VORTAC and the Kalamazoo VOR/DME.

V-233: V-233 currently extends between the Spinner, IL, VORTAC and the Litchfield, MI, VOR/DME; and between the Mount Pleasant, MI, VOR/DME and the Pellston, MI, VORTAC. The FAA proposes to remove the airway segment between the Roberts, IL, VOR/DME and the Goshen, IN, VORTAC. Additional changes to other portions of the airway have been proposed in a separate NPRM. As amended, the airway would extend between the Spinner VORTAC and the Roberts VOR/DME, between the Goshen VORTAC and the Litchfield VOR/DME, and between the Mount Pleasant VOR/DME and the Pellston VORTAC.

V-340: V-340 currently extends between the intersection of the Peotone, IL, VORTAC 053° and Knox, IN, VOR/DME 297° radials (BEARZ Fix) and the Fort Wayne, IN, VORTAC. The FAA proposes to remove the airway in its entirety.

V-371: V-371 currently extends between the Boiler, IN, VORTAC and the Knox, IN, VOR/DME. The FAA proposes to remove the airway in its entirety.

V-422: V-422 currently extends between the intersection of the DuPage, IL, VOR/DME 101° and Chicago Heights, IL, VORTAC 358° radials (NILES Fix) and the Flag City, OH, VORTAC. The FAA proposes to remove the airway segment between the NILES Fix and the Webster Lake, IN, VOR. The proposed removal of the airway segment between the NILES Fix and the Chicago Heights VORTAC would be mitigated by VOR Federal airways V-7 and V-97 which overlap V-422; however, the proposed removal of the airway segment between the Chicago Heights VORTAC and Webster Lake VOR is due to the planned decommissioning of the Knox VOR. As amended, the airway would extend between the Webster Lake VOR and the Flag City VORTAC.

The NAVAID radials listed in the VOR Federal airway descriptions below are unchanged and stated in True degrees.

VOR Federal airways are published in paragraph 6010(a) of FAA Order JO 7400.11G, dated August 19, 2022, and effective September 15, 2022, which is incorporated by reference in 14 CFR 71.1. The ATS routes listed in this document would be published subsequently in FAA Order JO 7400.11.

FAA Order JO 7400.11, Airspace Designations and Reporting Points, is published yearly and effective on September 15.

Regulatory Notices and Analyses

The FAA has determined that this proposed regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures,” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 6010(a) Domestic VOR Federal Airways.

* * * * *

V-126 [Amended]

From Goshen, IN; to INT Goshen 092° and Fort Wayne, IN, 016° radials.

* * * * *

V-156 [Amended]

From Cedar Rapids, IA; Moline, IL; Bradford, IL; to Peotone, IL. From Gipper, MI; to Kalamazoo, MI.

* * * * *

V-233 [Amended]

From Spinner, IL; INT Spinner 061° and Roberts, IL, 233° radials; to Roberts. From Goshen, IN; to Litchfield, MI. From Mount Pleasant, MI; INT Mount Pleasant 351° and Gaylord, MI, 207° radials; Gaylord; to Pellston, MI.

* * * * *

V-340 [Removed]

* * * * *

V-371 [Removed]

* * * * *

V-422 [Amended]

From Webster Lake, IN; INT Webster Lake 097° and Flag City, OH, 289° radials; to Flag City.

* * * * *

Issued in Washington, DC, on November 18, 2022.
Scott M. Rosenbloom,
Manager, Airspace Rules and Regulations.

[FR Doc. 2022-25526 Filed 11-23-22; 8:45 am]

BILLING CODE 4910-13-P